DEPARTMENT OF ENERGY

Federal Energy Regulatory Commission

Combined Notice of Filings #1

Take notice that the Commission received the following exempt wholesale generator filings:

Docket Numbers: EG23-89-000.

Applicants: San Jacinto Grid, LLC.

Description: San Jacinto Grid, LLC submits Notice of Self-Certification of Exempt Wholesale Generator Status.

Filed Date: 3/13/23.

Accession Number: 20230313-5158.

Comment Date: 5 p.m. ET 4/3/23.

Docket Numbers: EG23-90-000.

Applicants: Ortega Grid, LLC.

Description: Ortega Grid, LLC submits Notice of Self-Certification of Exempt Wholesale Generator Status.

Filed Date: 3/13/23.

Accession Number: 20230313-5163.

Comment Date: 5 p.m. ET 4/3/23.

Docket Numbers: EG23-91-000.

Applicants: Baldy Mesa Solar, LLC.

Description: Baldy Mesa Solar, LLC submits Notice of Self-Certification of Exempt Wholesale Generator Status.

Filed Date: 3/13/23.

Accession Number: 20230313-5166.

Comment Date: 5 p.m. ET 4/3/23.

Take notice that the Commission received the following electric rate filings:

Docket Numbers: ER21-1685-001.

Applicants: Tri-State Generation and Transmission Association, Inc.

Description: Compliance filing: Order 864 Compliance Filing to be effective 2/25/2020.

Filed Date: 3/13/23.

Accession Number: 20230313-5099.

Comment Date: 5 p.m. ET 4/3/23.

Docket Numbers: ER21-1706-001.

Applicants: Tri-State Generation and Transmission Association, Inc., Southwest Power Pool, Inc.

Description: Compliance filing: Tri-State Generation and Transmission Association, Inc. submits tariff filing per 35: Tri-State Generation and Transmission, Inc. Supplemental Order 864 Compliance to be effective 1/27/2020.

Filed Date: 3/13/23.

Accession Number: 20230313-5105.

Comment Date: 5 p.m. ET 4/3/23.

Docket Numbers: ER23-474-001.

Applicants: California Independent System Operator Corporation.

Description: Compliance filing: 2023-03-13 Washington WEIM Greenhouse Gas Compliance Filing to be effective 12/31/9998.

Filed Date: 3/13/23.

Accession Number: 20230313-5171.

Comment Date: 5 p.m. ET 4/3/23.

Docket Numbers: ER23-580-002.

Applicants: PJM Interconnection, L.L.C.

Description: Tariff Amendment: Amendment to WMPA, SA No. 5591; Queue No. AE2-054 (amend) to be effective 2/7/2023.

Filed Date: 3/13/23.

Accession Number: 20230313-5047.

Comment Date: 5 p.m. ET 4/3/23.

Docket Numbers: ER23-625-001.

Applicants: System Energy Resources, Inc.

Description: Tariff Amendment: SERI Deficiency Response ER23-625 to be effective 1/1/2023.

Filed Date: 3/13/23.

Accession Number: 20230313-5139.

Comment Date: 5 p.m. ET 4/3/23.

Docket Numbers: ER23-659-002.

Applicants: Upper Missouri G. & T. Electric Cooperative, Inc.

Description: Tariff Amendment: Second Amendment to Revisions to FERC Elec. Tariff No. 1 to be effective 1/1/2023.

Filed Date: 3/13/23.

Accession Number: 20230313-5055.

Comment Date: 5 p.m. ET 4/3/23.

Docket Numbers: ER23-831-001.

Applicants: Southwest Power Pool, Inc.

Description: Tariff Amendment: 2045R12 Evergy Kansas Central, Inc. NITSA NOA to be effective 1/1/2023.

Filed Date: 3/13/23.

Accession Number: 20230313-5130.

Comment Date: 5 p.m. ET 4/3/23.

Docket Numbers: ER23-1318-000.

Applicants: Alabama Power Company, Georgia Power Company, Mississippi Power Company.

Description: § 205(d) Rate Filing: Alabama Power Company submits tariff filing per 35.13(a)(2)(iii: Bigleaf Solar LGIA Filing to be effective 2/27/2023.

Filed Date: 3/13/23.

Accession Number: 20230313-5089.

Comment Date: 5 p.m. ET 4/3/23.

Docket Numbers: ER23-1319-000.

Applicants: Baldy Mesa Solar, LLC.

Description: Baseline eTariff Filing: Baldy Mesa Solar, LLC MBR Tariff to be effective 5/1/2023.

Filed Date: 3/13/23.

Accession Number: 20230313-5116.

Comment Date: 5 p.m. ET 4/3/23.

Docket Numbers: ER23-1323-000.

Applicants: Tri-State Generation and Transmission Association, Inc.

Description: § 205(d) Rate Filing: Amendment to Rate Schedule FERC No. 70 to be effective 5/12/2023.

Filed Date: 3/13/23.

Accession Number: 20230313-5140.

Comment Date: 5 p.m. ET 4/3/23.

Take notice that the Commission received the following qualifying facility filings:

Docket Numbers: QF23-789-000.

Applicants: IIV001-Za, LLC.

Description: Form 556 of IIV001-Za, LLC.

Filed Date: 3/10/23.

Accession Number: 20230310-5071.

Comment Date: 5 p.m. ET 3/31/23.

Docket Numbers: QF23-790-000.

Applicants: NBC003-0, LLC.

Description: Form 556 of NBC003-0, LLC.

Filed Date: 3/10/23.

Accession Number: 20230310-5157.

Comment Date: 5 p.m. ET 3/31/23.

Docket Numbers: QF23-791-000.

Applicants: SMH000-0, LLC.

Description: Form 556 of SMH000-0, LLC.

Filed Date: 3/10/23.

Accession Number: 20230310-5160.

Comment Date: 5 p.m. ET 3/31/23.

Docket Numbers: QF23-794-000.

Applicants: IIV002-A, LLC.

Description: Form 556 of IIV002-A, LLC.

Filed Date: 3/10/23.

Accession Number: 20230310-5270.

Comment Date: 5 p.m. ET 3/31/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 13, 2023.
Debbie-Anne A. Reese,
Deputy Secretary.

[FR Doc. 2023-05534 Filed 3-17-23; 8:45 am]

BILLING CODE 6717-01-P